DEPARTMENT OF ENERGY

Federal Energy Regulatory Commission

[Docket No. CP19-495-000]

Double E Pipeline, LLC; Notice of Schedule for Environmental Review of the Double E Project

On July 31, 2019, Double E Pipeline, LLC (Double E) filed an application in Docket No. CP19-495-000 requesting a Certificate of Public Convenience and Necessity pursuant to section 7(c) of the Natural Gas Act to construct and operate certain natural gas pipeline facilities. The proposed project, known as the Double E Pipeline Project (Project), involves the construction and operation of approximately 132.9 combined miles of varying diameter natural gas pipeline connecting the Delaware Basin production areas in New Mexico and Texas to the Waha Hub. The Project would provide up to 1,350,000 dekatherms per day of firm capacity to delivery points near the Waha Hub in Reeves and Pecos Counties, Texas.

On August 14, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—March 24, 2020

90-day Federal Authorization Decision Deadline—June 22, 2020

If a schedule change becomes necessary, additional notice will be provided so that the relevant agencies are kept informed of the Project's progress.

Project Description

As part of the Project, Double E would construct and operate:

• 33.3 miles of new 30-inch-diameter trunkline T100 from Summit Midstream's existing Lane Processing Plant located in Eddy County, New Mexico, to a new Double E Poker Lake Meter Station in Eddy County, New Mexico.

• 81.9 miles of new 42-inch-diameter trunkline T200 from the proposed Poker Lake Meter Station through Loving, Ward, and Reeves Counties, Texas to a terminus point at Double E's proposed Waha Receiver and Separation Site at the Waha Hub in Reeves County.

• Approximately 1.4 miles of new 42-inch-diameter pipeline T300 from the proposed Waha Receiver site to the final delivery location in Pecos County, Texas.

• Approximately 16.3 miles of new 30-inch-diameter pipeline L100 from three existing Gas Processing Plants in Loving, New Mexico to the proposed T100 trunkline in Eddy County, New Mexico.

Background

On December 11, 2018, the Commission issued a Notice of Intent to Prepare an Environmental Assessment for the Proposed Double E Pipeline Project and Request for Comments on Environmental Issues (NOI). The NOI was issued during the pre-filing review of the Project in Docket No. PF18-6-000 and sent to affected landowners; federal, state, and local government agencies; elected officials; Native American tribes; other interested parties; and local libraries and newspapers. Comments were received from the New Mexico Department of Game and Fish, the Hopi Tribe, Choctaw Nation of Oklahoma, Alabama-Coushatta Tribe of Texas, and the New Mexico Department of Transportation. All substantive comments received will be addressed in the EA.

The Bureau of Land Management will be a cooperating agency in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-495), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: September 30, 2019.
Nathaniel J. Davis, Sr.,
Deputy Secretary.

[FR Doc. 2019-21634 Filed 10-3-19; 8:45 am]

BILLING CODE 6717-01-P